DEPARTMENT OF ENERGY

Western Area Power Administration

White Wind Farm Project (DOE/ EIS-0376)

AGENCY: Western Area Power Administration, DOE.

ACTION: Record of decision.

SUMMARY: White Wind Farm, LLC (Applicant), a wholly-owned subsidiary of Navitas Energy, Inc., has applied to the U.S. Department of Energy (DOE), Western Area Power Administration (Western), to interconnect its proposed White Wind Farm Project (Project) to Western's transmission system at the existing White Substation, near Brookings, South Dakota. The project would involve building up to 103 2-megawatt (MW) wind turbine generators (WTG or Turbine) with a net capacity of up to 200 MW. Western considered the environmental impacts of the Project and has decided to grant the Applicant's request to interconnect to the White Substation. Taking into consideration the mitigation measures the Applicant has incorporated into the Project, Western expects no significant long-term or short-term impacts to resources from construction, operation, and maintenance of the proposed Project.

FOR FURTHER INFORMATION CONTACT: Ms. Catherine Cunningham, Western Area Power Administration, P.O. Box 281213, Lakewood, CO 80228, telephone (720) 962-7000, e-mail cunningh@wapa.gov. For information about DOE's National Environmental Policy Act (NEPA) process, contact Ms. Carol M. Borgstrom, Director, NEPA Policy and Compliance, GC-20, U.S. Department of Energy, 1000 Independence Avenue SW., Washington, DC 20585, telephone (202) 586-4600 or (800) 472-2756.

SUPPLEMENTARY INFORMATION: The Applicant's objective for the proposed Project is to develop a technically feasible and economically viable, wind-powered, electrical generation resource. The Applicant has identified the Project Area, near the White Substation, as suitable to meet the required criteria for developing a large, utility-scale wind energy project and has applied to Western for interconnection there. The White Substation is located near Brookings, South Dakota. The Project Area encompasses approximately 28 square miles (17,920 acres). It is bisected by a 345-kilovolt (kV) transmission line owned by Western. The location and land availability would enable the economic viability of the proposed Project. The Applicant expects the proposed Project to meet a portion of the projected regional demand for electricity produced from wind resources.

The Federal action associated with the proposed Project is approval or denial of the Applicant's interconnection request. Western needs to respond to the interconnection request, provide transmission service under its Notice of Final Open Access Transmission Service Tariff, protect transmission system reliability and service to its customers, ensure compliance with applicable environmental laws, and consider the Applicant's objective.

A Notice of Intent to prepare an environmental impact statement (EIS) was published in the Federal Register on February 18, 2005. Western held a scoping meeting to solicit public comments on the proposed Project in Hendricks, Minnesota, on March 1, 2005. In addition, the Applicant has been communicating and meeting with area landowners throughout development of the proposed Project, as part of lease negotiations. On August 18, 2006, the U.S. Environmental Protection Agency published a notice in the Federal Register, announcing the availability of the Draft EIS. Western held an Open House and Public Hearing on September 14, 2006, to solicit public comments on the Draft EIS. For both the initial scoping meeting and subsequent Open House/Public Hearing, Western provided notice of the meetings to Federal, State, and local agencies, Tribes, and the public, with print media, local newspapers announcements, and direct mailings. Western accepted public comments on the Draft EIS August 18 through October 2, 2006. The Notice of Availability of the Final EIS was published in the Federal Register on April 13, 2007.

Western decided to grant the Applicant's request to interconnect to its transmission system at the White Substation. This decision is based on a review of the potential environmental impacts of the Project. Western considered proposed mitigation measures as part of the proposed Project to determine impacts.

Alternatives

Western analyzed the Proposed Action and No Action alternatives in the EIS. Western considered alternative sites for the Project but dismissed them from consideration, as no viable alternative locations were identified. Therefore, Western limited its analysis to the proposal the Applicant submitted for approval.

Proposed Action

Under the Proposed Action, the Applicant would construct up to 103 2-MW WTGs with a net capacity of 200 MW. The Applicant would also construct underground and overhead electrical collector lines; a new Project substation; a line interconnecting its Project substation to Western's White Substation; and associated facilities. The Applicant proposes to construct or improve approximately 22 miles of roads for access to the WTGs and electrical collector lines.

The Project would temporarily disturb approximately 626 acres of land during construction of the proposed Project. It would permanently disturb about 93 acres for installation of Project components (access roads, turbine and crane pads, overhead poles, and new substation). The disturbed areas would be dispersed throughout the Project Area.

The Applicant would mount each WTG on a single steel self-supporting tower, approximately 255 feet high. The towers would be approximately 16 feet in diameter at the base and secured to concrete foundations. The housing, mounted at the top of each tower, would enclose the electric generator, a voltage step-up transformer, and a gearbox. Each WTG rotor would have three blades made of laminated glass and carbon fiber. The full WTG height at its tallest point would be approximately 400 feet from the ground to the tip of the turbine blade. The Applicant would paint the towers a flat neutral color to blend into the natural environment.

The Applicant proposes to construct the new Project substation adjacent to Western's existing White Substation. The substation would have a footprint of no more than 1 acre. The Applicant would construct the substation on private land immediately north of White Substation.

The network of underground and overhead 34.5-kV collector lines would interconnect the WTGs. Approximately 45 miles of underground 34.5-kV sub-transmission collection line and approximately nine miles of overhead 34.5-kV collector line would be needed. The Applicant would bury the underground electric collection line at least four feet below grade. The underground collection line would link each turbine to the next one or to the overhead lines, which would in turn, connect to the substation. The Applicant would construct the overhead lines within public road rights-of-way. The overhead lines would be supported on wooden single-pole structures, approximately 25 to 30 feet tall and spaced approximately 150 feet apart along road rights of way.

A temporary staging area would be developed on approximately eight acres of tilled farmland. While the location of the staging area is not final, the Applicant expects that it would be located near the proposed Project substation. This staging area would be used by the Applicant for construction safety meetings, office trailers, parking for equipment and vehicles, and staging for some project components.

To accommodate interconnection of the proposed Project to Western's substation, the Applicant would construct a 345-kV overhead connection line from the proposed Project substation to the White Substation. The new overhead line would terminate on a steel structure inside the White Substation. Western would install a sulfur hexafluoride (SF6), gas-insulated power circuit breaker; two high-voltage disconnect switches; and other miscellaneous equipment at the White Substation. Western would monitor the use, storage, and replacement of SF6 to minimize releases to the environment.

The Applicant anticipates an 8-month construction schedule. This schedule is subject to negotiations with regulatory agencies and utilities and may change. With the exception of the overhead lines within public road right of way, the Applicant would construct the proposed Project on privately-owned lands, according to landowner agreements and in compliance with county, State, and Federal requirements. The Applicant has obtained all necessary leases from private landowners to construct and operate the proposed Project up to 20 years. The Applicant would have the option to renew leases at the end of the 20-year agreements. Depending on wind turbine technology and market conditions at the end of the lease period, the Applicant may decommission the project or update it with more efficient components and renew lease agreements.

Following construction, the Applicant would reclaim areas not maintained as permanent facilities to their prior land use. The Applicant would reseed disturbed vegetation in non-agricultural areas in accordance with landowner agreements or local county extension service protocols.

During operation and maintenance, the Applicant would continuously monitor the WTGs for any abnormalities. If required, maintenance staff would be dispatched to repair WTGs. The Applicant would conduct routine maintenance of the WTGs every six months. Maintenance activities include lubrication and inspection of WTG components and fasteners. The WTGs have a design life of 20 years. Occasionally, a crane may be necessary to remove and replace turbine components. In this event, the Applicant would conduct all construction activity within previously disturbed areas.

During operation of the proposed Project substation, authorized personnel would conduct periodic inspections and service and repair equipment as needed. Substation equipment would include a step-up transformer, SF6 circuit breakers, switchgears, and other electrical equipment. Project personnel would monitor the use, storage, and replacement of SF6 to minimize releases to the environment.

Within 120 days of the completion of Project construction, the Applicant would submit a Decommissioning Plan to the Brookings County Planning and Zoning Department. The Decommissioning Plan would outline the manner in which decommissioning activities would be conducted. Upon termination of operations, and if the WTGs are not updated, the Applicant would be obligated to dismantle and remove all Project components. Unless written approval is given by the affected landowner, all Project components would be removed to a depth of 48 inches below grade and the soil would be restored to a condition reasonably similar to the condition of the surrounding soil.

Western completed wetland surveys to determine the presence of jurisdictional and non-jurisdictional wetlands in the Project Area. The U.S. Army Corps of Engineers has determined that the majority of streams and wetlands in the Project Area are jurisdictional waters of the United States. The Applicant's final site design would avoid all wetlands, both jurisdictional and non-jurisdictional. The Applicant would apply for appropriate permits for utility line activities, including access roads administered under section 404 of the Clean Water Act. These would contain general and permit-specific mitigation conditions for areas where the proposed access roads and utility lines would impact jurisdictional waters of the United States. The Applicant would employ directional boring techniques where underground collector systems would require a stream or wetland crossing. The use of directional boring would reduce erosion and/or sedimentation impacts. The Applicant would use Best Management Practices such as installing silt fencing to ensure that sediment or fill material does not impact adjacent waterways.

No Action Alternative

Under the No Action Alternative, Western would not grant the Applicant's request to interconnect to Western's transmission system, and the Applicant would not build the Project. Without the Project, existing environmental conditions would remain unchanged.

Environmentally Preferred Alternative

Western evaluated the alternatives to determine which is environmentally preferred, as required under 40 CFR 1505.2(b). The No Action Alternative is the environmentally preferred alternative, because no new disturbance would result. No impacts to environmental or social resources would occur. The No Action Alternative would not, however, meet the Applicant's objective.

Mitigation Measures

The Applicant has committed to minimize potential short-term and long-term environmental and social impacts of the Proposed Action through project design, which includes implementation of mitigation measures. These measures are consolidated in Appendix B of the Final EIS.

The Applicant, in consultation with Western, developed a monitoring plan to collect data on avian collisions with WTGs. Western and the Applicant would continue to coordinate with the U.S. Fish and Wildlife Service (USFWS) to ensure adequacy of the plan. Through such monitoring, the Applicant and Western would be able to identify and implement reasonable operational changes or additional mitigation measures to further reduce avian and bat mortality. Western and the Applicant are working with the USFWS to identify thresholds for making appropriate changes. Surveys associated with the monitoring plan include 1 year prior to construction to establish baseline data and 2 years following operational start-up. The Applicant would develop additional mitigation measures in consultation with the appropriate regulatory agency, if needed.

Western will develop a Mitigation Action Plan (MAP) to provide additional information on how mitigation measures, associated with the proposed Project, would be implemented. The MAP would be developed and made available prior to any project activities directed by this Record of Decision (ROD) that are subject to a mitigation commitment.

Consultation

Western is the lead Federal agency for compliance with Section 106 of the National Historic Preservation Act (NHPA) and Tribal consultation for all components of the Project. The Applicant would avoid all archaeological and traditional cultural properties determined significant in consultation with the South Dakota State Historic Preservation Officer (SHPO) and interested Tribes. Western prepared a Programmatic Agreement (PA) in coordination with the South Dakota SHPO. The PA was executed on December 18, 2006. It establishes the Area of Potential Effect for the proposed Project, proposes a treatment plan for identified resources, describes procedures for unanticipated discoveries, sets forth procedures for Tribal consultation, and suggests general mitigation measures. The PA ensures that there would be no “unmitigatable” adverse effects on historic properties as defined under the NHPA. The Applicant would avoid areas containing identified resources.

Western is also the lead for compliance with Section 7 of the Endangered Species Act. Western prepared a biological assessment and submitted it to the USFWS. Western determined that the project may affect but is not likely to adversely affect the western prairie fringed orchid, the Topeka shiner, and the bald eagle and is not likely to affect the Dakota skipper. The USFWS responded with a letter of concurrence on May 30, 2006, and an e-mail on May 31, 2007. Western reviewed additional literature and conducted field reconnaissance to supplement this analysis. Western may conduct further field studies prior to construction as a component of the Applicant's monitoring study. Western will continue to consult informally with the USFWS.

Floodplain Statement of Findings

Western prepared a floodplain assessment in the EIS according to 10 CFR part 1022. The assessment can be found in the Draft EIS along with project maps. The Federal Emergency Management Agency has not updated the Flood Insurance Rate Maps for this portion of South Dakota to reflect 500-year floodplains. One-hundred-year floodplains occur along Deer Creek and along several unnamed streams in the Project Area. The floodplains are generally confined to the streambed and immediately adjacent, low-lying areas. The floodplains associated with the ephemeral streams generally range from 200 to 500 feet in width. The Deer Creek floodplain ranges from approximately 400 to 1,500 feet in width. On-site or off-site flooding would not result from construction and operation of the proposed Project. The Applicant would not construct WTGs in floodplains. Implementation of county-approved design standards for areas of concentrated flow would ensure that on-site or off-site flooding does not occur.

Decision

Western decided to grant the Applicant's request to interconnect with Western's transmission system at the White Substation. The Proposed Action would meet the Applicant's objectives for the Project. Construction, operation, and maintenance of the proposed Project would not result in significant, short-or long-term environmental impacts. The Applicant would employ all practical means to avoid or minimize environmental harm as a result of the proposed Project.

This ROD meets the requirements of NEPA as well as the Council on Environmental Quality and DOE's NEPA implementing regulations. Additional analyses may affect this decision and result in subsequent analysis or decisions. Western will notify the public of any additional activities necessary to meet Western's NEPA and other public involvement requirements.

Dated: June 22, 2007.
Timothy J. Meeks,
Administrator.

[FR Doc. E7-13328 Filed 7-9-07; 8:45 am]

BILLING CODE 6450-01-P